NATIONAL SCIENCE FOUNDATION

U.S. Chief Financial Officer Council; Grants Policy Committee

ACTION: Notice of open stakeholder Webcast meeting.

SUMMARY: This notice announces an open stakeholder Webcast meeting sponsored by the Grants Policy Committee (GPC) of the U.S. Chief Financial Officers (CFO) Council.

DATES: The GPC will hold a Webcast meeting on Thursday, December 10, 2009 from 2-3:30 p.m., Eastern Time. The Webcast will be broadcast live. Relevant meeting materials will be posted on http://www.GPC.gov in advance of the meeting.

ADDRESSES: The GPC December 10th Webcast meeting will be broadcast from and held in Room B-180 of the U.S. Department of Housing and Urban Development (HUD), 451 7th Street, SW., Washington, DC 20410. Seating is limited—the first 35 people to respond, and receive confirmation of the response, can be part of the live audience. Both Federal and non-Federal employees must R.S.V.P. to reserve a seat by contacting Charisse Carney-Nunes at GPCWebcast@nsf.gov. All who have reserved seating must arrive in the HUD studio fifteen minutes prior to broadcast (arrive on the north side of the building). You must have a government-issued photo ID to gain access and will have to go through security screening. The GPC encourages non-federal organizations' staffs and members to attend the meeting in person or via Webcast.

Overview: The purpose of this Webcast is to provide a forum for the grants community to ask questions to the Recovery Accountability and Transparency Board (RATB) about Recovery Act grants reporting requirements. The RATB will provide a general overview of Recovery Act reporting, lessons learned, and what grantees need to know to report accurately. The U.S Government Accountability Office (GAO) will share information on their recent report on Recovery Act recipient reporting, dated 11/19/09. The Office of Management and Budget (OMB) will discuss the Single Audit Pilot for Recovery Act Funds. Webcast presenters will be available for a question & answer period after each presentation and for a final question and answer period after all presentations.

Further Information About the GPC Webcast: Questions on the Webcast should be directed to Charisse Carney-Nunes, National Science Foundation, 4201 Wilson Boulevard, Arlington, VA 22230; e-mail, GPCWebcast@nsf.gov. Information and materials that pertain to this Webcast meeting, including the call-in telephone number and the agenda will be posted on the Grants Policy Committee's Website at http://www.GPC.gov on the “Webcasts and Outreach” page. The link to view the Webcast will be posted on this site, along with Webcast instructions. After the meeting, a link to its recording will be posted on http://www.GPC.gov for at least 90 days.

Comment Submission Information: You may submit Webcast topic-related questions in advance of the webcast to GPCWebcast@nsf.gov. You may also submit comments during the Webcast meeting via telephone or e-mail. The call-in telephone number, which may be used only during the live Webcast, is 202-708-0995. The e-mail address for comments, which should be used only during the Webcast is HUDTV@HUD.GOV. After the Webcast, you may submit comments via email through the close of business on Wednesday, December 23, 2009. The e-mail address for comments before and after the Webcast is GPCWebcast@nsf.gov.

SUPPLEMENTARY INFORMATION: This Webcast meeting has been made possible by the cooperation of the National Science Foundation, HUD, and the GPC.

Webcast Materials: Webcast materials including the agenda, Webcast meeting slides, and the feedback form are posted at http://www.GPC.gov on the Webcasts and Outreach page. An archived version of this Webcast will be available in Windows Media format on the Webcasts and Outreach page of http://www.GPC.gov soon after this Webcast is broadcasted. Archived versions of the 2006, 2007, 2008, and 2009 GPC Stakeholder Webcasts are available for viewing at: http://www.hud.gov/webcasts/archives/grantspolicy.cfm.

Purpose of the Webcast meeting: The purpose of this Webcast is to provide a forum for the grants community to ask questions to the Recovery Accountability and Transparency Board (RATB) about Recovery Act grants reporting requirements.

Meeting structure and agenda: The December 10th Webcast meeting will have the following structure and agenda:

(1) Introduction;

(2) American Recovery and Reinvestment Act (ARRA) Reporting Overview, Lessons Learned, and Question and Answer (Q & A);

(3) Government Accountability Office Findings on ARRA Recipient Reporting and Q & A;

(4) Single Audit Pilot on ARRA Funds and Q & A;

(5) Quick GPC Update;

(6) Final Q & A; and

(7) Close.

Background: The GPC is a committee of the U.S. Chief Financial Officers (CFO) Council. The Office of Management and Budget (OMB) sponsors the GPC; its membership consists of grants policy subject matter experts from across the Federal Government. The GPC is charged with improving the management of federal financial assistance government-wide. To carry out that role, the committee recommends financial assistance policies and practices to OMB and coordinates related interagency activities. The GPC serves the public interest in collaboration with other Federal Government-wide grants initiatives.

Dated: November 30, 2009.
Thomas N. Cooley,
Director, Office of Budget, Finance and Award Management of the National Science Foundation and Chair of the Grants Policy Committee of the U.S. CFO Council.
Suzanne H. Plimpton,
Reports Clearance Officer, National Science Foundation.

[FR Doc. E9-28878 Filed 12-2-09; 8:45 am]

BILLING CODE 7555-01-P